INTERNATIONAL TRADE COMMISSION

[Inv. No. 337-TA-566]

In the Matter of Certain Chemical Mechanical Planarization Slurries and Precurors to Same Notice of a Commission Determination Not to Review an Initial Determination Terminating the Investigation with Respect to the Only Respondent, and Issuance of Consent Order

AGENCY: International Trade Commission.

ACTION: Notice.

SUMMARY: Notice is hereby given that the U.S. International Trade Commission has determined not to review an initial determination (“ID”) of the presiding administrative law judge (“ALJ”) in the above-captioned investigation terminating the investigation as to the only respondent. The investigation was terminated as to the only respondent based on a consent order.

FOR FURTHER INFORMATION CONTACT: Clint Gerdine, Esq., telephone 202-708-2310, Office of the General Counsel, U.S. International Trade Commission, 500 E Street, SW., Washington, DC 20436. Copies of all nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS-ON-LINE) at http://edis.usitc.gov. Hearing-impaired persons are advised that information on the matter can be obtained by contacting the Commission's TDD terminal on 202-205-1810.

SUPPLEMENTARY INFORMATION: The Commission instituted this investigation on April 28, 2006, based on a complaint filed by Cabot Microelectronics Corporation of Aurora, Illinois. A supplement to the complaint was filed on April 13, 2006. The complaint alleges violations of section 337 in the importation into the United States, the sale for importation, and the sale within the United States after importation of certain chemical mechanical planarization slurries and precursors to same by reason of infringement of claims 20, 22, 38, and 48 of U.S. Patent No. 5,958,288; claims 11, 18-19, and 25 of the U.S. Patent No. 5,980,773; and claims 8, 12, and 17 of U.S. Patent No. 6,068,787. The complaint named the respondent as Cheil Industries Inc. of Korea. The complaint further alleged that an industry in the United States exists as required by subsection (a)(2) of section 337.

On May 19, 2006, the only respondent filed a motion for termination of the investigation on the basis of a consent order. The Commission investigative attorney filed a response in support of the motion on May 31, 2006.

The ALJ issued the subject ID on June 7, 2006, granting the motion for termination. No party petitioned for review of the ID pursuant to 19 CFR 210.43(a), and the Commission found no basis for ordering a review on its own initiative pursuant to 19 CFR 210.44.

The authority for the Commission's determination is contained in section 337 of the Tariff Act of 1930, as amended (19 U.S.C. 1337), and in sections 210.21(c) and 210.42(h) of the Commission's Rules of Practice and Procedure.

Issued: June 23, 2006.
By order of the Commission.
Marilyn R. Abbott,
Secretary to the Commission.

[FR Doc. E6-10218 Filed 6-28-06; 8:45 am]

BILLING CODE 7020-02-P